OFFICE OF SCIENCE AND TECHNOLOGY POLICY

Aeronautics Science and Technology Subcommittee; Committee on Technology; National Science and Technology Council

ACTION: Notice of Meeting—Public input is requested on development of the draft National Aeronautics Research, Development, Test and Evaluation (RDT&E) Infrastructure Plan.

SUMMARY: The Aeronautics Science and Technology Subcommittee (ASTS) of the National Science and Technology Council's (NSTC) Committee on Technology will hold a public meeting to discuss the development of the National Aeronautics RDT&E Infrastructure Plan. Executive Order (E.O.) 13419—National Aeronautics Research and Development—signed December 20, 2006, calls for the development of this plan. The plan is guided by both the National Aeronautics Research and Development (R&D) Policy and the National Plan for Aeronautics Research and Development and Related Infrastructure that were developed by the NSTC in consonance with E.O. 13419. The draft National Aeronautics RDT&E Infrastructure Plan is to be completed in 2010.

Dates and Addresses: The meeting will be held in conjunction with the 48th AIAA Aerospace Sciences Meeting at the Orlando World Center Marriott, 8701 World Center Drive, Orlando, Florida 32821 on Thursday, January 7, 2010, from 1 p.m. to 3:30 p.m. in the Crystal Ballroom A. Information regarding the 48th AIAA Aerospace Sciences Meeting is available at the http://www.aiaa.org Web site. Note: Persons solely attending this ASTS public meeting do not need to register for the AIAA Conference and Exhibit to attend this public meeting. There will be no admission charge for persons solely attending the public meeting. Seating is limited and will be on a first come, first served basis.

FOR FURTHER INFORMATION CONTACT: Additional information and links to E.O. 13419, the National Aeronautics R&D Policy, the National Plan for Aeronautics Research and Development and Related Infrastructure, and the Technical Appendix—National Plan for Aeronautics Research and Development and Related Infrastructure are available by visiting the Office of Science and Technology Policy's NSTC Web site at: http://www.ostp.gov/nstc/aeroplans or by calling 202-456-6012.

SUPPLEMENTARY INFORMATION: E.O. 13419 and the National Aeronautics R&D Policy call for executive departments and agencies conducting aeronautics R&D to engage industry, academia and other non-Federal stakeholders in support of government planning and performance of aeronautics R&D. At this meeting, ASTS members will discuss the proposed structure and draft content (to date) of the National Aeronautics RDT&E Infrastructure Plan and receive input to help inform further development of the draft National Aeronautics RDT&E Infrastructure Plan. The desired outcome of the meeting is to obtain facts and information from individuals on the RDT&E infrastructure requirements to support the national aeronautics R&D goals and objectives related to: Mobility; national defense; aviation safety; and energy and the environment.

M. David Hodge,
Operations Manager, OSTP.

[FR Doc. E9-29317 Filed 12-8-09; 8:45 am]

BILLING CODE 3170-W9-P